ENVIRONMENTAL PROTECTION AGENCY

40 CFR Part 52

[EPA-R03-OAR-2023-0301; FRL-10191-03-R3]

Approval and Promulgation of Air Quality Implementation Plans; Delaware; Regional Haze State Implementation Plan for the Second Implementation Period; Extension of Comment Period

AGENCY: Environmental Protection Agency (EPA).

ACTION: Proposed rule; extension of comment period.

SUMMARY: The Environmental Protection Agency (EPA) is extending the comment period for a proposed rule that published August 19, 2024. The current comment period for the proposed rule was scheduled to close on September 18, 2024. The EPA is extending the comment period for the proposed action to September 23, 2024.

DATES: The comment period for the proposed rule published on August 19, 2024, at 89 FR 67018 is extended. Comments must be received on or before September 23, 2024.

ADDRESSES: Submit your comments, identified by Docket ID No. EPA-R03-OAR-2023-0301 at www.regulations.gov. Additional instructions to comment can be found in the notice of proposed rulemaking published August 19, 2024, at 89 FR 67018.

FOR FURTHER INFORMATION CONTACT: Adam Yarina, U.S. Environmental Protection Agency, Air & Radiation Division, U.S. Environmental Protection Agency, Region III, Four Penn Center, 1600 John F Kennedy Boulevard, Philadelphia, Pennsylvania 19103. The telephone number is (215) 814-2108. Mr. Yarina can also be reached via electronic mail at yarina.adam@epa.gov.

SUPPLEMENTARY INFORMATION: On August 19, 2024, the EPA published the proposed rule “Approval and Promulgation of Air Quality Implementation Plans; Delaware; Regional Haze State Implementation Plan for the Second Implementation Period” in the Federal Register (89 FR 67018). This action extends the comment period to give stakeholders additional time to review materials and prepare comments; therefore, EPA is extending the comment period to be received by September 23, 2024.

Adam Ortiz,
Regional Administrator, Region III.

[FR Doc. 2024-20837 Filed 9-13-24; 8:45 am]

BILLING CODE 6560-50-P